DEPARTMENT OF TRANSPORTATION

Federal Aviation Administration

14 CFR Part 73

[Docket No. FAA-2023-2043; Airspace Docket No. 23-ASO-31]

RIN 2120-AA66

Renaming of Restricted Areas R-5311A, R-5311B, and R-5311C; Fort Bragg, NC

AGENCY: Federal Aviation Administration (FAA), DOT.

ACTION: Final rule; correction.

SUMMARY: This action corrects a typographic error in the final rule published in the Federal Register on November 28, 2023, making an administrative change to rename restricted areas R-5311A, R-5311B, and R-5311C, Fort Bragg, NC, and updating the using agency description to reflect the change. Additionally, geographic coordinate technical amendments for two boundary points listed in the restricted areas were made to accurately align the existing boundary with the Little River referenced in the descriptions.

DATES: Effective date 0901 UTC, January 25, 2024.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Office of Policy, Federal Aviation Administration, 800 Independence Avenue SW, Washington, DC 20591; telephone: (202) 267-8783.

SUPPLEMENTARY INFORMATION:

History

The FAA published a final rule in the Federal Register (88 FR 83023; November 28, 2023), renaming restricted areas R-5311A, R-5311B, and R-5311C, Fort Bragg, NC, and updating the using agency description to reflect the change. Additionally, geographic coordinate technical amendments for two boundary points listed in the restricted areas were made to accurately align the existing boundary with the Little River referenced in the descriptions. Subsequent to publication, the FAA identified that the final rule was published with the incorrect docket number. This action corrects this error by replacing the incorrect docket number, FAA-2023-0243, with the correct one, FAA-2023-2043.

Correction to Final rule

Accordingly, pursuant to the authority delegated to me, Renaming of Restricted Areas R-5311A, R-5311B, and R-5311C; Fort Bragg, NC, published in the Federal Register on November 28, 2023 (88 FR 83023), FR Doc. 2023-26003, on page 83023, in the second column, is corrected by removing “Docket No. FAA-2023-0243” and adding in its place, “Docket No. FAA-2023-2043”.

Issued in Washington, DC, on December 12, 2023.
Frank Lias,
Manager, Rules and Regulations Group.

[FR Doc. 2023-27660 Filed 12-15-23; 8:45 am]

BILLING CODE 4910-13-P